STATE JUSTICE INSTITUTE

SJI Board of Directors Meeting, Notice

AGENCY: State Justice Institute.

ACTION: Notice of meeting.

SUMMARY: The SJI Board of Directors will be meeting on Monday, June 11, 2018 at 1:00 p.m. The meeting will be held at the Minnesota Judicial Center, 25 Rev. Dr. Martin Luther King, Jr. Blvd., Room 230, St. Paul, Minnesota. The purpose of this meeting is to consider grant applications for the 3rd quarter of FY 2018, and other business. All portions of this meeting are open to the public.

ADDRESSES: Minnesota Judicial Center, 25 Rev. Dr. Martin Luther King, Jr. Blvd., Room 230, St. Paul, MN.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2018-11468 Filed 5-25-18; 8:45 am]

BILLING CODE 6820-SC-P